ENVIRONMENTAL PROTECTION AGENCY

[EPA-HQ-OPP-2016-0047; FRL-9948-77-OEI]

Information Collection Request Submitted to OMB for Review and Approval; Comment Request; School Integrated Pest Management Awards Program

AGENCY: Environmental Protection Agency (EPA).

ACTION: Notice.

SUMMARY: EPA has submitted the following information collection request (ICR) to the Office of Management and Budget (OMB) for review and approval in accordance with the Paperwork Reduction Act: “School Integrated Pest Management Awards Program” (EPA ICR No. 2531.01, OMB Control No. 2070-NEW). This is a request for approval of a new collection. EPA did not receive any comments in response to the previously provided public review opportunity issued in the Federal Register of March 21, 2016 (81 FR 15107). With this submission, EPA is providing an additional 30 days for public review.

DATES: Comments must be received on or before September 19, 2016.

ADDRESSES: Submit your comments, identified by Docket ID Number EPA-HQ-OPP-2016-0047, to both EPA and OMB as follows:

To EPA online using http://www.regulations.gov (our preferred method) or by mail to: EPA Docket Center, Environmental Protection Agency, Mail Code 28221T, 1200 Pennsylvania Ave. NW., Washington, DC 20460, and

To OMB via email to oira_submission@omb.eop.gov. Address comments to OMB Desk Officer for EPA.

EPA's policy is that all comments received will be included in the public docket without change including any personal information provided, unless the comment includes profanity, threats, information claimed to be Confidential Business Information (CBI) or other information for which disclosure is restricted by statute.

FOR FURTHER INFORMATION CONTACT: Lily G. Negash, Field and External Affairs Division (7506P), Office of Pesticide Programs, Environmental Protection Agency, 1200 Pennsylvania Ave. NW., Washington, DC 20460; telephone number: (703) 347-8515; email address: negash.lily@epa.gov @epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, William Jefferson Clinton Bldg. West, Room 3334, 1301 Constitution Ave. NW., Washington, DC. The telephone number for the Docket Center is (202) 566-1744. For additional information about EPA's public docket, visit http://www.epa.gov/dockets.

ICR status: This is a new ICR. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This new ICR will cover the paperwork activities associated with EPA's program to encourage the use of Integrated Pest Management (IPM) as the preferred approach to pest control in the nation's schools. IPM is a smart, sensible, and sustainable approach to pest control that emphasizes the remediation of pest conducive conditions. IPM combines a variety of pest management practices to provide effective, economical pest control with the least possible hazard to people, property, and the environment. These practices involve exclusion of pests, maintenance of sanitation, and the judicious use of pesticides. The EPA's statutory authorities for this collection of information are set forth in the Pollution Prevention Act of 1990, the Federal Insecticide, Fungicide, and Rodenticide Act (FIFRA), and the Food Quality Protection Act (FQPA) of 1996.

The Agency's IPM implementation efforts are based on a wholesale approach aimed at kindergarten through 12th grade public and Tribal schools. The Agency intends to use the information collected through this ICR to encourage school districts to implement IPM programs and to recognize those that have attained a notable level of success. Because IPM implementation occurs along a continuum, the School IPM (SIPM) incentive program will recognize each milestone step a school district must take to begin, grow, and sustain an IPM program.

This program has five awards categories—Great Start, Leadership, Excellence, Sustained Excellence, and Connector or National Change Agency Award. The first four categories are stepwise levels that are reflective of the effort, experience, and, ultimately, success that results from implementing EPA-recommended IPM tactics that protect human health and the environment. Schools with pest infestations are not only exposed to potential harm to health and property, but also to stigmatization. The School IPM recognition program will give districts across the nation the opportunity to receive positive reinforcement through public recognition of their efforts in implementing pest prevention and management strategies.

Form Names/numbers: Great Start Award; Leadership Award; Excellence Award; Connector or National Change Agency Award.

Respondents/affected entities: Entities potentially affected by this ICR are school districts, or other entities represent by them.

Respondent's obligation to respond: Voluntary, required to obtain or retain a benefit.

Estimated number of respondents: Annual average of 53 (total).

Frequency of response: On occasion.

Total estimated burden: 859 hours (per year). Burden is defined at 5 CFR 1320.03(b).

Total estimated cost: $72,000 (per year), includes $0 annualized capital or operation and maintenance costs.

Changes in the Estimates: This is a new ICR.

Authority: 44 U.S.C. 3501 et seq.

Courtney Kerwin,
Director, Regulatory Support Division.

[FR Doc. 2016-20616 Filed 8-26-16; 8:45 am]

BILLING CODE 6560-50-P